DEPARTMENT OF LABOR

Office of the Secretary

Submission for OMB Review: Comment Request

August 22, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or email: king.darrin@dol.gov.

Comments should be sent to Office of Information and Regulatory Affairs, Attn: OMB Desk Officer for the Employment and Training Administration (ETA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension of currently approved collection.

Title: Planning Guidance and Instructions for Submission of the Strategic State Plan and Plan Modifications for Title I of the Workforce Investment Act of 1998 (WIA) and the Wagner Peyser Act.

OMB Number: 1205-0398.

Frequency: Every 5 years and On occasion.

Type of Response: Reporting.

Affected Public: State, Local, or Tribal Governments.

Number of Respondents: 56.

Number of Annual Responses: 19.

Estimated Time Per Response: 50 hours.

Total Burden Hours: 950.

Total Annualized capital/startup costs: $0.

Total Annual Costs (operating/maintaining systems or purchasing services): $0.

Description: The Workforce Investment Act of 1998 (Pub. L. 105-220) provides the framework for a network of State workforce investment systems designed to meet the needs of the nation's businesses, job seekers, youth, and those who want to further their careers. Title I requires that States develop five-year strategic plans for this system, which must also contain the detail plans required under the Wagner-Peyser Act (29 U.S.C. 49g). The Act also requires States to submit new Plans (if expiring) or medications as necessary. The WIA Planning Guidance is designed to advise states about how to continue their WIA Title I and Wagner Peyser Act programs under Public Law 105-220. Since all required five year plans have already been submitted, this information collection request only addresses potential plan modifications.

Agency: Employment and Training Administration.

Type of Review: Extension of currently approved collection.

Title: State Unified Plan Planning Guidance for State Unified Plans and Unified Plan Modifications Submitted Under Section 501 of the Workforce Investment Act of 1998 (WIA).

OMB Number: 1205-0407.

Frequency: Every 5 years and On occasion.

Type of Response: Reporting.

Affected Public: State, Local, or Tribal Governments.

Number of Respondents: 3.

Number of Annual Responses: 1.

Estimated Time Per Response: 50 hours.

Total Burden Hours: 50.

Total Annualized capital/startup costs: $0.

Total Annual Costs (operating/maintaining systems or purchasing services): $0.

Description: The Workforce Investment Act of 1998 (Pub. L. 105-220) provides the framework for a network of State workforce investment systems designed to meet the needs of the nation's businesses, job seekers, youth, and those who want to further their careers. WIA requires that States develop five-year strategic plans for this system, which must also contain the detailed plans required under the Wagner-Peyser Act (29 U.S.C. 49g). Section V provides States the option of submitting a State Unified Plan. The Act also required States to submit new Plans (if expiring) or modifications as necessary. The WIA Unified Planning Guidance is designed to advise States about how to continue their WIA programs under Public Law 105-220. Since all required five year plans have already been submitted, this information collection request only addresses potential plan modifications.

Ira L. Mills,
Departmental Clearance Officer.

[FR Doc. 05-17059 Filed 8-26-05; 8:45 am]

BILLING CODE 4510-30-P